DEPARTMENT OF LABOR

Employment and Training Administration

[TA-W-52,854]

Business Confidential; U.S. Axle, Inc., Pottstown, PA; Notice of Termination of Investigation

Pursuant to section 221 of the Trade Act of 1974, as amended, an investigation was initiated on September 12, 2003 in response to a petition filed by a company official on behalf of workers at U.S. Axle, Inc., Pottstown, Pennsylvania.

The petitioner has requested that the petition be withdrawn. Consequently, the investigation has been terminated.

Signed at Washington, DC this 7th day of October, 2003.
Richard Church,
Certifying Officer, Division of Trade Adjustment Assistance.

[FR Doc. 03-29119 Filed 11-20-03; 8:45 am]

BILLING CODE 4510-30-P